DEPARTMENT OF TRANSPORTATION

Federal Aviation Administration

14 CFR Part 71

[Docket No. FAA-2009-1009; Airspace Docket No. 09-AWP-11]

Modification of Class E Airspace; Oxnard, CA

AGENCY: Federal Aviation Administration (FAA), DOT.

ACTION: Final rule.

SUMMARY: This action will modify Class E airspace at Point Mugu Naval Air Station (NAS), Oxnard, CA. Additional controlled airspace is necessary to accommodate aircraft flying in the Los Angeles Air Route Traffic Control Center's (ARTCC's) airspace area. The FAA is taking this action to enhance the safety and management of aircraft operations in Los Angeles ARTCC's airspace. This action also makes a minor change to the name and geographic coordinates of Point Mugu NAS, Oxnard, CA.

DATES: Effective Date: 0901 UTC, June 3, 2010. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On December 29, 2009, the FAA published in the Federal Register a notice of proposed rulemaking to establish additional controlled airspace at Point Mugu NAS, Oxnard, CA (74 FR 68748). Interested parties were invited to participate in this rulemaking effort by submitting written comments on the proposal to the FAA. No comments were received. The FAA found the acronym NAS in the airport name was typed as NAWS, and also updates the geographic coordinates to coincide with the FAA's National Aeronautical Charting Office.

Class E airspace designations are published in paragraph 6005 of FAA Order 7400.9T signed August 27, 2009, and effective September 15, 2009, which is incorporated by reference in 14 CFR part 71.1. The Class E airspace designations listed in this document will be published subsequently in that Order.

The Rule

This action amends Title 14 Code of Federal Regulations (14 CFR) part 71 by adding additional Class E airspace 700 and 1,200 feet above the surface for Point Mugu NAS, Oxnard, CA, to accommodate the vectoring of aircraft flying en route, in and out of the Los Angeles ARTCC's airspace area. This action enhances the safety and management of aircraft operations in Los Angeles ARTCC's airspace. This action also changes the name from Point Mugu NAWS, to Point Mugu NAS, and updates the geographic coordinates of Point Mugu NAS, Oxnard, CA.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Point Mugu NAS, Oxnard, CA.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009, is amended as follows:

Paragraph 6005 Class E airspace areas extending upward from 700 feet or more above the surface of the earth.

* * * * *

AWP CA E5 Oxnard, CA

Point Mugu NAS (Naval Base Ventura Co), CA

(Lat. 34°07′09″N., long. 119°07′10″W.)

That airspace extending upward from 700 feet above the surface beginning at lat. 34°01′56″N., long. 119°01′44″W.; to lat. 34°02′30″N., long. 118°53′33″W.; to lat. 34°19′30″N., long. 118°53′03″W.; to lat. 34°19′30″N., long. 119°29′53″W.; thence 3 miles west of and parallel to the shoreline to lat. 34°14′50″N., long. 119°22′03″W.; to lat. 34°14′45″N., long. 119°23′33″W.; to lat. 34°06′55″N., long. 119°22′33″W.; to lat. 34°07′41″N., long. 119°15′40″W., thence via a 7-mile radius of Point Mugu NAS to the point of beginning. That airspace extending upward from 1,200 feet above the surface bounded by a line beginning at lat. 34°30′00″N., long. 118°50′03″W.; to lat. 34°00′00″N., long. 118°50′03″W.; to lat. 34°00′00″N., long. 119°05′00″W.; to lat. 33°52′03″N., long. 119°06′59″W.; to lat. 33°28′30″N., long. 119°07′03″W.; to lat. 33°28′30″N., long. 118°47′00″W.; to lat. 33°19′30″N., long. 118°37′03″W.; to lat. 32°53′00″N., long. 119°13′00″W.; to lat. 33°05′00″N., long. 119°45′07″W.; to lat. 33°53′00″N., long. 120°38′00″W.; lat. 33°54′00″N., long. 120°00′03″W.; to lat. 34°20′00″N., long. 120°00′04″W.; to lat. 34°20′00″N., long. 119°30′03″W.; to lat. 34°30′00″N., long. 119°30′03″W., thence to the point of beginning, excluding that airspace more than 12 nautical miles from the shoreline. That airspace extending upward from 5,000 feet MSL bounded by a line beginning at lat. 34°08′00″N., long. 120°00′03″W.; to lat. 33°54′00″N., long. 120°00′03″W.; to lat. 33°53′00″N., long. 120°38′00″W.; to lat. 33°55′00″N., long. 120°40′00″W.; lat. 34°00′00″N., long. 120°43′00″W.; to lat. 34°06′15″N., long. 120°30′04″ W.; to lat. 34°08′00″N., long. 120°26′04″W., thence to the point of beginning, excluding that airspace more than 12 nautical miles from the shoreline.

Issued in Seattle, Washington, on March 31, 2010.
Robert E. Henry,
Acting Manager, Operations Support Group, Western Service Center .

[FR Doc. 2010-8407 Filed 4-13-10; 8:45 am]

BILLING CODE 4910-13-P